DEPARTMENT OF EDUCATION

National Technical Advisory Council

AGENCY: U.S. Department of Education, Office of Elementary and Secondary Education.

ACTION: Request for Nominations To Serve on the National Technical Advisory Council (NTAC).

SUMMARY: The Secretary of Education (Secretary) invites interested parties to submit nominations for individuals to serve on the National Technical Advisory Council.

SUPPLEMENTARY INFORMATION: The National Technical Advisory Council (NTAC or the Council) is established by the Secretary of Education and governed by the provisions of the Federal Advisory Committee Act (FACA) (Pub. L. 92-463, as amended; 5 U.S.C. Appendix 2). In order to ensure that the U.S. Department of Education (Department) is making sound technical decisions related to the approval of state-designed standards, assessments, and accountability systems, the NTAC shall advise the Secretary and the Assistant Secretary for Elementary and Secondary Education (Assistant Secretary) on technical issues related to the design and implementation of standards, assessments, and accountability systems consistent with section 1111(b) of the No Child Left Behind Act of 2001 and 34 CFR 200.1 through 200.20.

The Council shall consist of approximately 16 members, including persons who have knowledge of and expertise in the design and implementation of educational standards, assessments, and accountability systems for all students, including students with disabilities and limited English proficient students, and experts with technical knowledge related to statistics and psychometrics. At least one-third of the members shall have experience working in or with state educational agencies or local educational agencies. NTAC will advise the Secretary on matters that arise during the State Plan review process.

Nomination Process: Any interested person or organization may nominate one or more qualified individuals for membership. If you would like to nominate an individual or yourself for appointment to the Council, please submit the following information to the Department's White House Liaison Office:

• A copy of the nominee's resume;

• A cover letter that provides your reason(s) for nominating the individual; and

• Contact information for the nominee (name, title, business address, business phone, fax number, and business e-mail address).

In addition, the cover letter must state that the nominee (if nominating someone other than yourself) has agreed to be nominated and is willing to serve on the Council. Nominees will be appointed based on technical qualifications, professional experience, and demonstrated knowledge of issues related to state-designed standards, assessment, and accountability systems.

DATES: Nominations for individuals to serve on the Council must be submitted (postmarked, if sending by mail; submitted electronically; or received, if hand delivered) by November 4, 2009.

ADDRESSES: You may submit nominations, including attachments, by any of the following methods:

• Electronically: Send to: WhiteHouseLiaison@ed.gov (specify in the e-mail subject line, “NTAC Nomination”)

• Mail, express delivery, hand delivery, messenger, or courier service: Submit one copy of the documents listed above to the following address: U.S. Department of Education, White House Liaison Office, 400 Maryland Avenue, SW., Room 7C109, Washington, DC 20202. Attn: Karen Akins.

For questions, contact Karen Akins, White House Liaison Office, at (202) 401-3677, fax (202) 205-0723, or via e-mail at WhiteHouseLiaison@ed.gov.

Arne Duncan,
Secretary of Education.

[FR Doc. E9-23961 Filed 10-2-09; 8:45 am]

BILLING CODE 4000-01-P